SMALL BUSINESS ADMINISTRATION

[Disaster Declaration #14779 and #14780]

Virginia Disaster #VA-00064

AGENCY: U.S. Small Business Administration.

ACTION: Notice.

SUMMARY: This is a notice of an Administrative declaration of a disaster for the State of Virginia dated 07/22/2016.

Incident: Severe storms and flooding.

Incident Period: 06/23/2016.

Effective Date: 07/22/2016.

Physical Loan Application Deadline Date: 09/20/2016.

Economic Injury (EIDL) Loan Application Deadline Date: 04/24/2017.

ADDRESSES: Submit completed loan applications to: U.S. Small Business Administration, Processing and Disbursement Center, 14925 Kingsport Road, Fort Worth, TX 76155.

FOR FURTHER INFORMATION CONTACT: Alan Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: Alleghany.

Contiguous Counties:

Virginia: Bath, Botetourt, Clifton Forge (City), Covington City, Craig, Rockbridge.

West Virginia: Greenbrier, Monroe.

The Interest Rates are:

| Percent
For Physical Damage:
Homeowners with Credit Available Elsewhere | 3.250
Homeowners without Credit Available Elsewhere | 1.625
Businesses with Credit Available Elsewhere | 6.250
Businesses without Credit Available Elsewhere | 4.000
Non-Profit Organizations with Credit Available Elsewhere | 2.625
Non-Profit Organizations without Credit Available Elsewhere | 2.625
For Economic Injury:
Businesses & Small Agricultural Cooperatives without Credit Available Elsewhere | 4.000
Non-Profit Organizations without Credit Available Elsewhere | 2.625

The number assigned to this disaster for physical damage is 14779 B and for economic injury is 14780 0.

The States which received an EIDL Declaration # are Virginia, West Virginia.

(Catalog of Federal Domestic Assistance Numbers 59002 and 59008)

Dated: July 22, 2016.
Maria Contreras-Sweet,
Administrator.

[FR Doc. 2016-18023 Filed 7-28-16; 8:45 am]

BILLING CODE 8025-01-P